DEPARTMENT OF ENERGY

Federal Energy Regulatory Commission

Combined Notice of Filings #1

Take notice that the Commission received the following exempt wholesale generator filings:

Docket Numbers: EG16-34-000.

Applicants: CPV Towantic, LLC.

Description: Notice of Self-Certification of Exempt Wholesale Generator Status of CPV Towantic, LLC.

Filed Date: 1/7/16.

Accession Number: 20160107-5194.

Comments Due: 5 p.m. ET 1/28/16.

Docket Numbers: EG16-35-000.

Applicants: CPV Valley, LLC.

Description: Notice of Self-Certification of Exempt Wholesale Generator Status of CPV Valley, LLC.

Filed Date: 1/7/16.

Accession Number: 20160107-5195.

Comments Due: 5 p.m. ET 1/28/16.

Take notice that the Commission received the following electric rate filings:

Docket Numbers: ER16-168-001.

Applicants: New York Independent System Operator, Inc.

Description: Tariff Amendment: Response to Deficiency Letter re Penalty Gas Cost to be effective 12/31/9998.

Filed Date: 1/7/16.

Accession Number: 20160107-5178.

Comments Due: 5 p.m. ET 1/19/16.

Docket Numbers: ER16-694-000.

Applicants: Wabash Valley Power Association, Inc.

Description: § 205(d) Rate Filing: Amendments to Rate Schedules—Noble County REMC to be effective 3/7/2016.

Filed Date: 1/7/16.

Accession Number: 20160107-5163.

Comments Due: 5 p.m. ET 1/28/16.

Docket Numbers: ER16-695-000.

Applicants: Tucson Electric Power Company.

Description: § 205(d) Rate Filing: Amendment to Rate Schedule No. 321, SRSG Participation Agreement to be effective 3/9/2016.

Filed Date: 1/8/16.

Accession Number: 20160108-5053.

Comments Due: 5 p.m. ET 1/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2016.
Nathaniel J. Davis, Sr.,
Deputy Secretary.

[FR Doc. 2016-00601 Filed 1-13-16; 8:45 am]

BILLING CODE 6717-01-P